DEPARTMENT OF COMMERCE

National Telecommunications and Information Administration

Agency Information Collection Activities; Submission to the Office of Management and Budget (OMB) for Review and Approval; Comment Request; Public Wireless Supply Chain Innovation Fund Program

AGENCY: National Telecommunications and Information Administration (NTIA), Department of Commerce.

ACTION: Notice of information collection, request for comment.

SUMMARY: The Department of Commerce, in accordance with the Paperwork Reduction Act of 1995 (PRA), invites the public and other Federal agencies to comment on proposed, and continuing information collections, which helps us assess the impact of our information collection requirements and minimize the public's reporting burden. The purpose of this notice is to allow for 60 days of public comment preceding the submission of the collection to OMB.

DATES: To ensure consideration, comments regarding this proposed information collection must be received on or before June 16, 2023.

ADDRESSES: Interested persons are invited to submit written comments by mail to Carolyn Dunn, Grants Director, Innovation Fund, Office of International Affairs, National Telecommunications and Information Administration, U.S. Department of Commerce, 1401 Constitution Avenue NW, Room 4701, Washington, DC 20230, or by email to innovationfund@ntia.gov. Please reference Innovation Fund Data Collection in the subject line of your comments. Do not submit Confidential Business Information or otherwise sensitive or protected information.

FOR FURTHER INFORMATION CONTACT: Requests for additional information or specific questions related to collection activities should be direct to Carolyn Dunn, Grants Director, Innovation Fund, Office of International Affairs, National Telecommunications and Information Administration, U.S. Department of Commerce, 1401 Constitution Avenue NW, Room 4701, Washington, DC 20230, or email at innovationfund@ntia.gov or via telephone at 202-482-4103.

SUPPLEMENTARY INFORMATION:

I. Abstract

The Public Wireless Supply Chain Innovation Fund (Innovation Fund), authorized by Section 9202(a)(1) of the William M. (Mac) Thornberry National Defense Authorization Act for Fiscal Year 2021, Public Law 116-283, 134 Stat. 3388 (Jan. 1, 2021) (FY21 NDAA) and appropriated by Div. A., Section 106 of the CHIPS and Science Act of 2022, Public Law 117-167, 136 Stat. 1392 (Aug. 9, 2022) provides funding for efforts that accelerate the development, deployment, and adoption of open and interoperable radio access networks (RAN) through a competitive grant program. NTIA will be publishing the program's Notice of Funding Opportunity (NOFO) at www.grants.gov to describe the requirements under which it will award grants for the Public Wireless Supply Chain Innovation Fund. The NOFO requires award recipients to submit a Baseline Report 45 days after grant award. Award recipients must follow the reporting requirements described in Section A.01 Report Requirement of the Department of Commerce Financial Assistance Standard Terms and Conditions (dated November 12, 2020). Additionally, in accordance with 2 CFR part 170, all recipients of a federal award made on or after October 1, 2010, must comply with reporting requirements under the Federal Funding Accountability and Transparency Act of 2006 (Public Law 109-282).

NTIA will use the information collected from each award recipient to effectively administer and monitor the grant program to ensure the achievement of the Innovation Fund purposes and account for the expenditure of federal funds to deter waste, fraud, and abuse.

II. Method of Collection

Public Wireless Supply Chain Innovation Fund

The Baseline Report is a one-time collection of information from award recipients covering project plans and details about key outputs and outcomes that will be due within 45 days of the issuance of the award. NTIA will collect data through an electronic submission.

III. Data

OMB Control Number: 0660-XXXX.

Form Number(s): None.

Type of Review: Regular submission for new information collection.

Affected Public: Grant award recipients consisting of for-profit companies, non-profit companies, institutions of higher education, industry groups, and consortia including two or more such entities.

Estimated Number of Respondents: 30.

Estimated Time per Response: 20.

Estimated Total Annual Burden Hours: 600.

Estimated Total Annual Cost to Public: $28,638.

Respondent's Obligation: Mandatory.

Legal Authority: Section 9202(a)(1) of the William M. (Mac) Thornberry National Defense Authorization Act for Fiscal Year 2021, Public Law 116-283, 134 Stat. 3388 (Jan. 1, 2021) (FY21 NDAA) and Div. A., Section 106 of the CHIPS and Science Act of 2022, Public Law 117-167, 136 Stat. 1392 (Aug. 9, 2022).

IV. Request for Comments

We are soliciting public comments to permit the Department to:

(a) Evaluate whether the proposed information collection is necessary for the proper functions of the Department, including whether the information will have practical utility.

(b) Evaluate the accuracy of our estimate of the time and cost burden for this proposed collection, including the validity of the methodology and assumptions used.

(c) Evaluate ways to enhance the quality, utility, and clarity of the information to be collected.

(d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-08011 Filed 4-14-23; 8:45 am]

BILLING CODE 3510-60-P